DEPARTMENT OF COMMERCE

Foreign-Trade Zones Board

[B-15-2020]

Foreign-Trade Zone (FTZ) 106—Oklahoma City, Oklahoma; Authorization of Production Activity; PRO-PIPE USA, LLC; (High-Density Polyethylene Pipe); Shawnee, Oklahoma

On March 5, 2020, PRO-PIPE USA, LLC submitted a notification of proposed production activity to the FTZ Board for its facility within FTZ 106, in Shawnee, Oklahoma.

The notification was processed in accordance with the regulations of the FTZ Board (15 CFR part 400), including notice in the Federal Register inviting public comment (85 FR 14883, March 16, 2020). On July 6, 2020, the applicant was notified of the FTZ Board's decision that no further review of the activity is warranted at this time. The production activity described in the notification was authorized, subject to the FTZ Act and the FTZ Board's regulations, including Section 400.14.

Dated: July 6, 2020.
Andrew McGilvray,
Executive Secretary.

[FR Doc. 2020-14798 Filed 7-8-20; 8:45 am]

BILLING CODE 3510-DS-P